DEPARTMENT OF TRANSPORTATION

Federal Aviation Administration

14 CFR Part 71

[Airspace Docket No. 01-AEA-10]

Amendment to Class E Airspace, Salisbury, MD

AGENCY: Federal Aviation Administration (FAA), DOT.

ACTION: Final rule; correction.

SUMMARY: This action corrects an error in the geographic coordinates of a final rule that was published in the Federal Register on April 13, 2001, Airspace Docket No. 00-AEA-03FR

EFFECTIVE DATE: July 12, 2001.

FOR FURTHER INFORMATION CONTACT: Mr. Francis T. Jordan, Jr., Airspace Specialist, Airspace Branch, AEA-520 F.A.A. Eastern Region, 1 Aviation Plaza, Jamaica, NY; 11434-4809; telephone: (718) 553-4521.

SUPPLEMENTARY INFORMATION:

History

Federal Register document 01-7419, Airspace Docket No. 00-AEA-03FR, published on April 13, 2001 (66 FR 19083), established Class E airspace at Salisbury, MD. An error was discovered in the geographic coordinates for the Salisbury, MD airport and two other geographic points were omitted. This action corrects those errors.

Correction to Final Rule

Accordingly, pursuant to the authority delegated to me, the geographic coordinates for the Salisbury airport as published in the Federal Register on April 13, 2001 (72 FR 19803, (Federal Register Document 01-7419; page 19083 column 2), are corrected as follows:

§ 71.71 [Corrected]

AEA MD E2 Salisbury, MD (Corrected)

Salisbury-Ocean City, Wicomico County Regional Airport

By removing “(lat. 38°20.43′ N/long. 75°30.62′ W)” and substituting “(lat. 38°20′26″ N/long. 75°30′37″ W)”

By adding;

Salisbury VORTAC

(Lat. 38°20′42″ N., long. 75°30′38′ W.

Salisbury-Wicomico County Regional Airport ILS

Runway 32 Localizer

(Lat. 38°20′52″ N., long. 75°31′10″ W.)

Issued in Jamaica, New York, on May 15, 2001.
F.D. Hatfield,
Manager, Air Traffic Division, Eastern Region.

[FR Doc. 01-13314 Filed 5-25-01; 8:45 am]

BILLING CODE 4910-13-M